CONSUMER PRODUCT SAFETY COMMISSION

Sunshine Act Meetings

FEDERAL REGISTER CITATION OF PREVIOUS ANNOUNCEMENT: Vol. 78, No. 217, Friday, November 8, 2013, page 67130.

ANNOUNCED TIME AND DATE OF OPEN MEETING: 10 a.m.-12 p.m., Wednesday, November 13, 2013.

CHANGES TO OPEN MEETING AGENDA:. Matter To Be Considered: Decisional Matter—Voluntary Recall Notice NPR.

Item Removed From the Agenda: Decisional Matters: FY 2014 Operating Plan.

For a recorded message containing the latest agenda information, call (301) 504-7948.

CONTACT PERSON FOR ADDITIONAL INFORMATION: Todd A. Stevenson, Office of the Secretary, 4330 East West Highway, Bethesda, MD 20814 (301) 504-7923.

Dated: November 12, 2013.
Todd A. Stevenson,
Secretary.

[FR Doc. 2013-27389 Filed 11-12-13; 4:15 pm]

BILLING CODE 6355-01-P